DEPARTMENT OF VETERANS AFFAIRS

[OMB Control No. 2900-0160]

Agency Information Collection: (Per Diem for Nursing Home Care of Veterans in State Homes; Per Diem for Domiciliary Adult Day Health Care of Veterans in State Homes)

AGENCY: Veterans Health Administration, Department of Veterans Affairs.

ACTION: Notice.

SUMMARY: The Veterans Health Administration (VHA), Department of Veterans Affairs (VA), is announcing an opportunity for public comment on the proposed collection of certain information by the agency. Under the Paperwork Reduction Act (PRA) of 1995, Federal agencies are required to publish notice in the Federal Register concerning each proposed collection of information and allow 60 days for public comment in response to the notice. This notice solicits comments on the information needed to provide payment of per diem to State homes that provide nursing home care to eligible veterans and payment of per diem to State homes that provide adult day health care to eligible veterans. The intended effect of these provisions was to ensure that veterans receive high quality care in State Homes.

DATES: Written comments and recommendations on the proposed collection of information should be received on or before October 19, 2015.

ADDRESSES: Submit written comments on the collection of information through Federal Docket Management System (FDMS) at www.Regulations.gov; or Colette Alvarez, Chief Business Office, Purchased Care, Veterans Health Administration (10N21R), Department of Veterans Affairs, 810 Vermont Avenue NW., Washington, DC 20420 or email: Colette.Alvarez@va.gov. Please refer to “Per Diem for Nursing Home Care of Veterans in State Homes; Per Diem for Domiciliary and Adult Day Health Care of Veterans in State Homes, OMB Control No. 2900-0160” in any correspondence. During the comment period, comments may be viewed online through the FDMS.

FOR FURTHER INFORMATION CONTACT: Colette Alvarez at (775) 842-5755.

SUPPLEMENTARY INFORMATION: Under the PRA of 1995 (Pub. L. 104-13; 44 U.S.C. 3501-3521), Federal agencies must obtain approval from the Office of Management and Budget (OMB) for each collection of information they conduct or sponsor. This request for comment is being made pursuant to section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Titles: (Per Diem for Nursing Home Care of Veterans in State Homes; Per Diem for Domiciliary Adult Day Health Care of Veterans in State Homes).

a. Title 38, CFR parts 51 and 52, State Home Programs.

b. State Home Inspection—Staffing Profile, VA Form 10-3567.

c. State Home Report and Statement of Federal Aid Claimed, VA Form 10-5588.

d. Claim for Payment for Nursing Home Care Provided to Veterans Awarded Retroactive Service Connection, VA Form 10-5588A.

e. State Home Program Application for Veteran Care—Medical Certification, VA Form 10-10SH.

f. Department of Veterans Affairs Certification Regarding Drug-Free Workplace Requirements for Grantees Other Than Individuals, VA Form 10-0143.

g. Statement of Assurance of Compliance with Section 504 of the Rehabilitation Act of 1973, VA Form 10-0143a.

h. Certification Regarding Lobbying, VA Form 10-0144.

i. Statement of Assurance of Compliance with Equal Opportunity Laws, VA Form 10-0144a.

j. Request for Prescription Drugs from an Eligible Veteran in a State Home, VA Form 10-0460.

OMB Control Number: 2900-0160.

Type of Review: Revision of a currently approved collection.

Abstract: VA pays per diem to State Veterans Homes (SVHs) providing nursing home, domiciliary and adult day health services care to eligible Veterans. VA pays per diem to SVHs for the care of Veterans irrespective of whether the Veteran has wartime or peacetime service.

VA processes two different types of state nursing home per diem payments. Each is determined by a Veteran's eligibility. One is a higher per diem or prevailing rate for certain Veterans who have service-connected disabilities. The other is a basic rate that is paid to Veterans who are not eligible for the higher rate. VA also ensures that SVHs meet VA standards through surveys, audits, and reconciliation of records. VA requires facilities providing nursing home, domiciliary and adult day health care to furnish an application for recognition based on certification; appeal information, application and justification for payment; records and reports which facility management must maintain regarding activities of residents or participants; information relating to whether the facility meets standards concerning residents' rights and responsibilities prior to admission or enrollment, during admission or enrollment, and upon discharge; the records and reports which facilities management and health care professionals must maintain regarding residents or participants and employees; documents pertain to the management of the facilities; food menu planning; pharmaceutical records; and life safety documentation. Without access to such information, VA would not be able to determine whether high quality care is being provided to Veterans.

For an eligible Veteran to be considered for per diem payments for nursing home, domiciliary or ADHC, two forms are required to be submitted to the VA medical center of jurisdiction for each Veteran, at the time of the Veteran's admission to a SVH (VA Form 10-10EZ, Application for Health Benefits or 10-10EZR, Health Benefits Renewal Form) and VA Form 10-10SH, State Home Program Application for Veteran Care Medical Certification).

Affected Public: State, Local or Private Government.

Estimated Annual Burden: 6,818 hours.

Home Programs:

a. State Home Inspection Staffing Profile, VA Form 10-3567—69.5 hrs.

b. State Home Report and State of Federal Aid Claimed, VA Form 10-5588—834 hrs.

c. Claim for Payment for Nursing Home Care Provided to Veterans Awarded Retroactive Service Connection, VA Form 10-5588A—180 hrs.

d. State Home Program Application for Veteran Care—Medical Certification, VA Form 10-10SH—3,802 hrs.

e. Department of Veterans Affairs Certification Regarding Drug-Free Workplace Requirements for Grantees Other Than Individuals, VA Form 10-0143—12 hrs.

f. Statement of Assurance of Compliance with Section 504 of the Rehabilitation Act of 1973, VA Form 10-1043a—12 hrs.

g. Certification Regarding Lobbying, VA Form 10-0144—12 hrs.

h. Statement of Assurance of Compliance with Equal Opportunity Laws, VA Form 10-0460—12 hrs.

i. Request for Prescription Drugs from an Eligible Veteran in a State Home, VA Form 10-0144a—12 hrs.

j. Application for Recognition (Letter to Under Secretary for Health)—2 hrs.

k. Recognition & Certification (Sections 51.30 and 52.30)—120 hrs.

l. Quality of Life (Sections 51.100 and 52.100)—350 hrs.

m. Section, Administration and (Section 51.210 and 52.210)—1,400.

Estimated Average Burden per Respondent:

Frequency of Response: On Occasion.

Estimated Number of Respondents: 12,884.

By direction of the Secretary.
Kathleen M. Manwell,
Program Analyst, VA Privacy Service, Office of Privacy and Records Management, Department of Veterans Affairs.

[FR Doc. 2015-20458 Filed 8-18-15; 8:45 am]

BILLING CODE 8320-01-P